NATIONAL AERONAUTICS AND SPACE ADMINISTRATION

[Notice (04-076)]

Notice of Prospective Patent License

AGENCY: National Aeronautics and Space Administration.

ACTION: Notice of prospective patent license.

SUMMARY: NASA hereby gives notice that BTS Holdings, LLC, having offices in Houston, Texas, has applied for an exclusive license to practice the inventions described and claimed in pending U.S. Patent Application entitled “Real-Time High Frequency QRS Electrocardiograph,” NASA Case No. MSC-23154-1; pending U.S. Patent Application entitled, “Method and Apparatus for Diagnosis of Coronary Artery Disease, Acute Coronary Syndromes, Cardiomyopathy and Other Cardiac Conditions,” NASA Case No. MSC-23449-1; and corresponding foreign patent applications. Each of the above-listed applications are assigned to the United States of America as represented by the Administrator of the National Aeronautics and Space Administration. Written objections to the prospective grant of a license should be sent to the Johnson Space Center. NASA has not yet made a determination to grant the requested license and may deny the requested license even if no objections are submitted within the comment period.

DATES: Responses to this notice must be received by July 26, 2004.

FOR FURTHER INFORMATION CONTACT: James Cate, Patent Attorney, NASA Johnson Space Center, Mail Stop HA, Houston, TX 77058-8452; telephone (281) 483-1001.

Dated: June 14, 2004.
Keith T. Sefton,
Chief of Staff, Office of the General Counsel.

[FR Doc. 04-14437 Filed 6-24-04; 8:45 am]

BILLING CODE 7510-01-P